DEPARTMENT OF TRANSPORTATION

Federal Aviation Administration

Agency Information Collection Activities: Requests for Comments; Clearance of Renewed Approval of Information Collection: Safety, Awareness, Feedback, and Evaluation (SAFE) Program

AGENCY: Federal Aviation Administration (FAA), DOT.

ACTION: Notice and request for comments.

SUMMARY: In accordance with the Paperwork Reduction Act of 1995, FAA invites public comments about our intention to request the Office of Management and Budget (OMB) approval to renew a previously approved information collection. Executive Order 12862 Setting Customer Service Standards, and most recently updated in Executive Order 13571, requires the Federal Government to provide the “highest quality service possible to the American people.” Under the order, the “standard of quality for services provided to the public shall be: Customer service equal to the best in business.” The FAA Flight Standards Service designed the SAFE Program to continuously promote and improve overall aviation safety.

DATES: Written comments should be submitted by July 3, 2017.

ADDRESSES: Interested persons are invited to submit written comments on the proposed information collection to the Office of Information and Regulatory Affairs, Office of Management and Budget. Comments should be addressed to the attention of the Desk Officer, Department of Transportation/FAA, and sent via electronic mail to oira_submission@omb.eop.gov, or faxed to (202) 395-6974, or mailed to the Office of Information and Regulatory Affairs, Office of Management and Budget, Docket Library, Room 10102, 725 17th Street NW., Washington, DC 20503.

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

FOR FURTHER INFORMATION CONTACT: Ronda Thompson by email at: Ronda.Thompson@faa.gov.

SUPPLEMENTARY INFORMATION:

OMB Control Number: 2120-0759.

Title: Safety, Awareness, Feedback, and Evaluation (SAFE) Program.

Form Numbers: None.

Type of Review: Renewal of an information collection.

Background: The Federal Register Notice with a 60-day comment period soliciting comments on the following collection of information was published on March 14, 2017 (82 FR 13707). In response to Executive Order 12862, and most recently updated in Executive Order 13571, the FAA Flight Standards Service designed the SAFE Program to continuously promote and improve overall aviation safety. The program goals are accomplished by periodically surveying stakeholder groups to measure the effectiveness of FAA regulatory processes and products and collect feedback on the quality of provided services. The survey outcomes form the basis of program improvements to ensure stakeholders are effectively served. The outcomes and planned improvements are shared with stakeholder groups.

Respondents: Approximately 1590 respondents annually.

Frequency: Information is collected on occasion.

Estimated Average Burden per Response: 20 minutes.

Estimated Total Annual Burden: 531 hours.

Issued in Washington, DC, on May 24, 2017.
Ronda L Thompson,
FAA Information Collection Clearance Officer, Performance, Policy & Records Management Branch, ASP-110.

[FR Doc. 2017-11376 Filed 5-31-17; 8:45 am]

BILLING CODE 4910-13-P